DEPARTMENT OF COMMERCE

National Oceanic and Atmospheric Administration

[RIN 0648-XA545]

Marine Mammals; Photography Permit No. 16360

AGENCY: National Marine Fisheries Service (NMFS), National Oceanic and Atmospheric Administration (NOAA), Commerce.

ACTION: Notice; issuance of permit.

SUMMARY: Notice is hereby given that a permit has been issued to Oceanic Nature Film Productions (Responsible Party: Dieter Paulmann), P.O. Box 301 722, Albany 0752, Auckland, New Zealand to conduct commercial/educational photography of cetaceans off Hawaii.

ADDRESSES: The permit and related documents are available for review upon written request or by appointment in the following offices:

Permits, Conservation and Education Division, Office of Protected Resources, NMFS, 1315 East-West Highway, Room 13705, Silver Spring, MD 20910; phone (301) 427-8401; fax (301) 713-0376; and

Pacific Islands Region, NMFS, 1601 Kapiolani Blvd., Rm 1110, Honolulu, HI 96814-4700; phone (808) 944-2200; fax (808) 973-2941.

FOR FURTHER INFORMATION CONTACT: Carrie Hubard or Laura Morse, (301) 427-8401.

SUPPLEMENTARY INFORMATION: On May 11, 2011, notice was published in the Federal Register (76 FR 27307) that a request for a permit to conduct commercial/educational photography on 12 cetacean species had been submitted by the above-named applicant. The requested permit has been issued under the authority of the Marine Mammal Protection Act of 1972, as amended (16 U.S.C. 1361 et seq.) and the regulations governing the taking and importing of marine mammals (50 CFR part 216). Section 104(c)(6) provides for photography for educational or commercial purposes involving non-endangered and non-threatened marine mammals in the wild.

Oceanic Nature Film Productions is authorized to film cetaceans in the waters off Kona, Hawaii. Using one or two sailing catamarans as a base, filmmakers can conduct surface and underwater photography. Additionally, a passive acoustic array may be towed to obtain marine mammal vocalizations. Twelve species of cetaceans may be approached for filming. The permit does not authorize approaches of species listed as threatened or endangered. Up to 50 animals from each species may be harassed as a result of filming. Footage will be used in a feature film intended to educate the public about marine mammal conservation issues, as well as the importance of the Pacific Islands to the oceans. The permit expires on October 31, 2011.

In compliance with the National Environmental Policy Act of 1969 (42 U.S.C. 4321 et seq.), a final determination has been made that the activity proposed is categorically excluded from the requirement to prepare an environmental assessment or environmental impact statement.

Dated: July 1, 2011.
P. Michael Payne,
Chief, Permits, Conservation and Education Division, Office of Protected Resources, National Marine Fisheries Service.

[FR Doc. 2011-17194 Filed 7-7-11; 8:45 am]

BILLING CODE 3510-22-P